DEPARTMENT OF AGRICULTURE

Foreign Agricultural Service

Trade Adjustment Assistance for Farmers

AGENCY: Foreign Agricultural Service, USDA.

ACTION: Notice.

The Administrator of the Foreign Agricultural Service (FAS) today accepted and began a review of a petition for trade adjustment assistance filed under the FY 2011 Program by three lamb producers on behalf of lamb producers in Idaho, Utah, and Wyoming. A public hearing to review the merits of the petition will be held in Room 411-P, of Suite 400, Portals Office Building, 1250 Maryland Ave., SW., Washington, DC 20024, on July 21, 2010, at 11 a.m. ET. The Administrator will determine within 40 days whether or not increasing imports of lamb meat contributed importantly to a greater than 15-percent decrease in the production quantity of lambs compared to the average of the three preceding marketing years. If the determination is affirmative, producers who produce and market lambs in Idaho, Utah, and Wyoming will be eligible to apply to the Farm Service Agency for free technical assistance and cash benefits.

FOR FURTHER INFORMATION CONTACT: Trade Adjustment Assistance for Farmers Staff, FAS, USDA, by phone: (202) 720-0638, or (202) 690-0633; or by e-mail: tradeadjustment@fas.usda.gov; or visit the TAA for Farmers' Web site: http://www.fas.usda.gov/itp/taa.

Dated: July 14, 2010.
John D. Brewer,
Administrator, Foreign Agricultural Service.

[FR Doc. 2010-17809 Filed 7-22-10; 8:45 am]

BILLING CODE 3410-10-P